DEPARTMENT OF HEALTH AND HUMAN SERVICES

Food and Drug Administration

21 CFR Part 101

[Docket No. 00N-1351]

Food Labeling; Use of the Term “Fresh” for Foods Processed With Alternative Nonthermal Technologies

AGENCY: Food and Drug Administration, HHS.

ACTION: Reopening of the comment period.

SUMMARY: The Food and Drug Administration (FDA) is reopening to November 20, 2000, the comment period for a document published in the Federal Register of July 3, 2000 (65 FR 41029), that announced a public meeting to discuss use of the term “fresh” for foods processed with alternative technologies. FDA is taking this action in response to a request for more time to submit comments to FDA.

DATES: Submit written comments by November 20, 2000.

ADDRESSES: Submit written comments to the Dockets Management Branch (HFA-305), Food and Drug Administration, rm. 1061, 5630 Fishers Lane, Rockville, MD 20852. You may also send comments to the Dockets Management Branch at the following e-mail address: FDADockets@oc.fda.gov or via the FDA Internet at http://www.accessdata.fda.gov/scripts/oc/dockets/comments/commentdocket.cfm.

FOR FURTHER INFORMATION CONTACT: Geraldine A. June, Center for Food Safety and Applied Nutrition (HFS-822), Food and Drug Administration, 200 C St. SW., Washington, DC 20204, 202-205-4168 or FAX 202-205-5295.

SUPPLEMENTARY INFORMATION:

I. Reopening of Comment Period

In the Federal Register of July 3, 2000 (65 FR 41029), FDA (we) published a document announcing a public meeting to discuss the use of the term “fresh” on foods processed with alternative nonthermal technologies. In that document, we solicited public input on whether use of the term “fresh” is truthful and nonmisleading in the labeling of foods processed with these technologies and on what criteria we should use when considering use of the term with future technologies. We stated that we would make available at our Dockets Management Branch and on our website the transcript of the public meeting. Also in that document, we stated that interested parties may submit comments to the docket until August 21, 2000.

Following the public meeting, FDA received a comment from a trade association requesting more time for interested parties to comment. The trade association stated that the testimony presented at the public meeting made it evident that the issues surrounding the use of the term “fresh” on foods processed with new technologies are quite complicated. The trade association maintained that additional time is needed for careful consideration of the scientific and technical topics on which FDA is seeking comments. FDA believes that reopening the comment period until Novembr 20, 2000, is appropriate. Reopening the comment period will allow the public adequate time to read the transcript of the public meeting and to carefully consider the topics we are seeking input on before preparing their comments.

II. How To Submit Comments

Interested persons may, on or before November 20, 2000, submit written comments to the Dockets Management Branch (address above). You may also send comments to the Dockets Management Branch at the following e-mail address: FDADockets@oc.fda.gov or via the FDA Internet at http://www.accessdata.fda.gov/scripts/oc/dockets/comments/commentdocket.cfm. Please address your comments to the docket number given at the beginning of this document. You must submit two copies of comments, identified with the docket number found in brackets in the heading of this document, except that you may submit one copy if you are an individual. You may review received comments in the Dockets Management Branch between 9 a.m. and 4 p.m. Monday through Friday.

Dated: September 12, 2000
William K. Hubbard,
Senior Associate Commissioner for Policy, Planning, and Legislation.

[FR Doc. 00-24123 Filed 9-19-00; 8:45 am]

BILLING CODE 4160-01-F